DEPARTMENT OF COMMERCE

National Oceanic and Atmospheric Administration

RIN 0648-XG100

Pacific Bluefin Tuna Management Strategy Evaluation National Marine Fisheries Service Listening Sessions; Meeting Announcement

AGENCY: National Marine Fisheries Service (NMFS), National Oceanic and Atmospheric Administration (NOAA), Commerce.

ACTION: Notice of public meeting.

SUMMARY: NMFS is holding a listening session to provide information and receive stakeholder input regarding an upcoming Pacific bluefin tuna management strategy evaluation workshop. The listening session will be broadcast in two separate locations, and will include presentations and time for stakeholder input into the development of management objectives. The meeting topics are described under the SUPPLEMENTARY INFORMATION section of this notice.

DATES: The meeting will be held on April 18, 2018, from 12:30 p.m. to 4:30 p.m. PDT.

ADDRESSES: The meeting will be held concurrently in two locations: (1) In the Pacific Conference Room (Room 300) at NMFS, Southwest Fisheries Science Center, 8901 La Jolla Shores Drive, La Jolla, California 92037; (2) Room 3400 at the Long Beach Federal Building, 501 W Ocean Blvd., Long Beach, California 90802. Please notify Celia Barroso (see FOR FURTHER INFORMATION CONTACT) by April 11, 2018, if you plan to attend and whether you will be attending in person or remotely. The meetings will be accessible by webinar—instructions and background materials will be emailed to meeting participants.

FOR FURTHER INFORMATION CONTACT: Celia Barroso, West Coast Region, NMFS, at Celia.Barroso@noaa.gov, or at (562) 432-1850.

SUPPLEMENTARY INFORMATION: The International Scientific Committee for Tuna and Tuna-like Species in the North Pacific Ocean is hosting the first Pacific bluefin tuna management strategy evaluation (MSE) workshop May 30-31, 2018, in Yokohama, Japan. MSE is a simulation that allows stakeholders (e.g., industry, managers, scientists) to assess how well different management strategies, such as harvest control rules, meet the objectives of the fishery. In accordance with the outcomes from the 2nd Joint Inter-American Tropical Tuna Commission—Western and Central Pacific Fisheries Commission Northern Committee Working Group meeting,¹ NMFS anticipates that at this first workshop, participants will begin to develop potential management objectives that might be used in the MSE for the Pacific bluefin tuna fishery.

¹ https://www.wcpfc.int/meetings/nc13.

For the listening session, NMFS will provide stakeholders with background on the status of the Pacific bluefin tuna stock and the MSE process. Additionally, NMFS is interested in learning from stakeholders about preferred management objectives. The manner of public comment will be at the discretion of the presenters and NMFS staff.

Pacific Bluefin Tuna MSE Listening Session Topics

The Pacific bluefin tuna MSE topics will include, but are not limited to, the following:

(1) An overview of MSE and

(2) Example management objectives for Pacific bluefin tuna.

Special Accommodations

The meeting location is physically accessible to people with disabilities. Requests for sign language interpretation or other auxiliary aids should be directed to Celia Barroso (see FOR FURTHER INFORMATION CONTACT) by April 5, 2018.

Authority: 16 U.S.C. 951 et seq. and 16 U.S.C. 6901 et seq.

Dated: March 20, 2018.
Jennifer M. Wallace,
Acting Director, Office of Sustainable Fisheries, National Marine Fisheries Service.

[FR Doc. 2018-06032 Filed 3-23-18; 8:45 am]

BILLING CODE 3510-22-P